DEPARTMENT OF HEALTH AND HUMAN SERVICES

Food and Drug Administration

[Docket No. FDA-2024-N-0604]

Withdrawal of Food and Drug Administration Notice Regarding Yong Sheng Jiao; Denial of Hearing; Final Debarment Order

AGENCY: Food and Drug Administration, HHS.

ACTION: Notice; withdrawal.

SUMMARY: The Food and Drug Administration (FDA) is issuing this notice to withdraw the December 5, 2024, Federal Register notice entitled “Yong Sheng Jiao; Denial of Hearing; Final Debarment Order” because the document provided the incorrect bases for debarment and omitted edited language. A corrected notice document is published elsewhere in this Federal Register.

FOR FURTHER INFORMATION CONTACT: Karen Fikes, Office of Scientific Integrity, Food and Drug Administration, 10903 New Hampshire Ave., Bldg. 1, Rm. 4232, Silver Spring, MD 20993, 301-796-9603.

SUPPLEMENTARY INFORMATION: In the Federal Register of December 5, 2024 (89 FR 96655), FDA published a notice entitled “Yong Sheng Jiao; Denial of Hearing; Final Debarment Order.” The notice incorrectly reflected language for debarment and omitted edited language. The published document did not evince all changes and edits relevant to this notice. For this reason, the notice, Docket No. FDA-2024-N-0604, as published in the Federal Register on December 5, 2024, is hereby withdrawn.

Dated: December 31, 2024.
George M. Warren,
Director, Office of Scientific Integrity.

[FR Doc. 2025-00125 Filed 1-7-25; 8:45 am]

BILLING CODE 4164-01-P